DEPARTMENT OF THE INTERIOR

Bureau of Land Management

[15X.LLAZ956000.L14400000.BJ0000.LXSSA225000.241A]

Notice of filing of plats of survey; Arizona

AGENCY: Bureau of Land Management, Interior.

ACTION: Notice of filing of plats of survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey of portions of Mineral Survey No. 1787, unsurveyed Township 15 North, Range 2 East, accepted October 17, 2014, and officially filed October 20, 2014, for Group 1124, Arizona.

This plat was prepared at the request of the United States Forest Service.

The plat representing the dependent resurvey of a portion of the subdivisional lines, the subdivision of section 14, and the survey of a portion of the meanders of the left bank of the Verde River in section 14, Township 14 North, Range 4 East, accepted February 13, 2015, and officially filed February 13, 2015, for Group 1138, Arizona.

This plat was prepared at the request of the Bureau of Indian Affairs.

The plat representing the dependent resurvey of a portion of the south boundary, and a portion of the 1966 meanders of the right bank of the Verde River in section 32, and the subdivision of section 32, and the survey of the meanders of the thread of the present natural channel of the Verde River in front of lot 6, section 32, Township 14 North, Range 5 East, accepted February 13, 2015, and officially filed February 17, 2015, for Group 1137, Arizona.

This plat was prepared at the request of the Bureau of Indian Affairs.

The plat representing the dependent resurvey of a portion of the subdivisional lines, and metes-and-bounds surveys, partially surveyed Township 11 North, Range 11 East, accepted December 11, 2014, and officially filed December 16, 2014, for Group 1130, Arizona.

This plat was prepared at the request of the United States Forest Service.

The plat representing the amended protraction diagram of partially surveyed Township 11 North, Range 11 East, accepted December 11, 2014, and officially filed December 16, 2014.

This plat was prepared at the request of the Bureau of Land Management.

The plat representing the dependent resurvey of the east boundary of Township 24 North, Range 21 East, the survey of the south boundary and the subdivisional lines, and the subdivision of certain sections, Township 24 North, Range 22 East, accepted January 23, 2015, and officially filed January 26, 2015, for Group 1126, Arizona.

This plat was prepared at the request of the Bureau of Indian Affairs.

The plat representing the dependent resurvey of a portion of the north boundary, a portion of the subdivisional lines, a portion of the subdivision lines within sections 11 and 14, the subdivision of sections 3 and 10, Township 5 North, Range 30 East, accepted February 20, 2015, and officially filed February 24, 2015, for Group 1108, Arizona.

This plat was prepared at the request of the United States Forest Service.

The plat representing the dependent resurvey of a portion of the subdivisional lines, and a metes-and-bounds survey in section 28, Township 13 North, Range 4 West, accepted February 20, 2015, and officially filed February 24, 2015, for Group 1140, Arizona.

This plat was prepared at the request of the Bureau of Land Management.

The plat representing the subdivision of section 23, and the metes-and-bounds survey of the center line of certain existing roads within the southeast quarter of the northwest quarter, and the northeast quarter of the southwest quarter of section 23, Township 18 North, Range 13 West, accepted January 6, 2015, and officially filed January 7, 2015, for Group No. 1131, Arizona.

This plat was prepared at the request of the Bureau of Indian Affairs.

The plat representing the dependent resurvey of a portion of the west and north boundaries, a portion of the subdivisional lines and a portion of Homestead Entry Survey No. 263, and the subdivision of sections 5 and 6, Township 10 South, Range 16 East, accepted December 11, 2014, and officially filed December 12, 2014, for Group 1109, Arizona.

This plat was prepared at the request of the United States Forest Service.

The plat representing the dependent resurvey of a portion of the west boundary and a portion of the subdivisional lines, and the subdivision of sections 31 and 32, Township 17 South, Range 19 East, accepted December 9, 2014, and officially filed December 10, 2014, for Group 1115, Arizona.

This plat was prepared at the request of the United States Forest Service.

The plat representing the dependent resurvey of a portion of the subdivisional lines, and the subdivision of section 29, Township 6 South, Range 28 East, accepted October 17, 2014, and officially filed October 20, 2014, for Group 1134, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Gerald T. Davis,
Chief Cadastral Surveyor of Arizona.

[FR Doc. 2015-05572 Filed 3-11-15; 8:45 am]

BILLING CODE 4310-32-P